DEPARTMENT OF ENERGY

10 CFR Part 430

[Docket No. EE-RM-94-403]

RIN 1940-AB67

Office of Energy Efficiency and Renewable Energy; Energy Conservation Program for Consumer Products: Clothes Washer Energy Conservation Standards

AGENCY: Department of Energy (DOE).

ACTION: Final rule; denial of reconsideration and completion of regulatory review.

SUMMARY: In accordance with the memorandum of January 20, 2001, from the Assistant to the President and Chief of Staff, entitled “Regulatory Review Plan,” published in the Federal Register on January 24, 2001, (66 FR 7702) DOE temporarily delayed for 60 days (66 FR 8744, February 2, 2001) the effective date of appendix J to subpart B of 10 CFR part 430 in the final rule entitled “Energy Conservation Program for Consumer Products: Clothes Washer Energy Conservation Standards” published in the Federal Register on January 12, 2001 (66 FR 3314). By petition dated March 13, 2001, the Mercatus Center at George Mason University and the Competitive Enterprise Institute, on behalf of a variety of organizations purporting to represent consumer interests, petitioned for reconsideration of the final rule. DOE has considered the legal and policy arguments in the petition for reconsideration and has completed its review of the final rule. Having concluded that no further rulemaking action is warranted, DOE hereby denies the petition for reconsideration.

DATES: The April 13, 2001 effective date of the rule amending appendix J to subpart B of 10 CFR part 430 (66 FR 8744, February 2, 2001) is confirmed.

FOR FURTHER INFORMATION CONTACT: Jill Holtzman, Office of General Counsel, (202) 586-3410, jill.holtzman@hq.doe.gov. or Bryan Berringer, Office of Energy Efficiency and Renewable Energy, (202) 586-0371, bryan.berringer@ee.doe.gov. or Eugene Margolis, Office of General Counsel, (202) 586-9526, eugene.margolis@hq.doe.gov.

Issued in Washington, D.C. on April 12, 2001.
Spencer Abraham,
Secretary of Energy.

[FR Doc. 01-9568 Filed 4-13-01; 1:00 pm]

BILLING CODE 6450-01-P